NATIONAL SCIENCE FOUNDATION

Astronomy and Astrophysics Advisory Committee; Notice of Meeting

In accordance with the Federal Advisory Committee Act (Pub. L. 92-463, as amended), the National Science Foundation (NSF) announces the following meeting:

Name and Committee Code: Astronomy and Astrophysics Advisory Committee (13883) (Virtual).

Date and Time: December 11-12, 2025; 9 a.m.-5:30 p.m. eastern time.

Place: 2415 Eisenhower Avenue, Alexandria, VA 22314.

This is a virtual meeting. Members and the public may attend this meeting virtually via Zoom.

Registration and attendance information for the meeting will be forthcoming on the advisory committee website: https://www.nsf.gov/mps/ast/aaac.jsp.

Type of Meeting: Open.

Contact Person: Dr. Louise Edwards, Program Director, Division of Astronomical Sciences, Suite W 9147, National Science Foundation, 2415 Eisenhower Avenue, Alexandria, VA 22314; Telephone: 703-292-5135.

Purpose of Meeting: To hear presentations of current programming by representatives from NSF, NASA, DOE and other agencies relevant to astronomy and astrophysics; to discuss current and potential areas of cooperation between the agencies; to formulate recommendations for continued and new areas of cooperation and mechanisms for achieving them.

Agenda: To provide updates on Agency activities and to discuss the Committees draft annual report due 15 March 2026.

Dated: November 14, 2025.
Crystal Robinson,
Committee Management Officer.

[FR Doc. 2025-20232 Filed 11-18-25; 8:45 am]

BILLING CODE 7555-01-P